DEPARTMENT OF TRANSPORTATION

Federal Aviation Administration

14 CFR Part 39

[Docket No. FAA-2006-25730; Directorate Identifier 2006-NE-31-AD; Amendment 39-14796; AD 2006-21-11]

RIN 2120-AA64

Airworthiness Directives; Turbomeca Turmo IV A and IV C Series Turboshaft Engines

AGENCY: Federal Aviation Administration (FAA), Department of Transportation (DOT).

ACTION: Final rule; request for comments.

SUMMARY: The FAA is adopting a new airworthiness directive (AD) for Turbomeca Turmo IV A and IV C series turboshaft engines. This AD requires identifying, inspecting and replacing flexible lubrication pipes manufactured after April 1, 2003. If both engines on the same helicopter each have an affected pipe, then this AD requires replacing one of the affected pipes before further flight. This AD also requires initial and repetitive borescope inspections of affected pipes, visual inspections for oil leakage, and visual inspections of the oil filter, on engines that are not required to have an affected pipe replaced before further flight by this AD. This AD results from 7 reports of oil leakage due to the deterioration of flexible lubrication pipes manufactured after April 1, 2003. We are issuing this AD to prevent dual-engine failure on a twin-engine helicopter.

DATES: Effective November 3, 2006.

We must receive any comments on this AD by December 18, 2006.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Turbomeca, 40220 Tarnos, France; telephone 33 05 59 74 40 00, fax 33 05 59 74 45 15 for the service information identified in this AD.

FOR FURTHER INFORMATION CONTACT: Christopher Spinney, Aerospace Engineer, Engine Certification Office, FAA, Engine and Propeller Directorate, 12 New England Executive Park, Burlington, MA 01803; telephone (781) 238-7175; fax (781) 238-7199.

SUPPLEMENTARY INFORMATION: The European Aviation Safety Agency (EASA), which is the airworthiness authority for the European Community, recently notified us that an unsafe condition may exist on certain Turbomeca Turmo IV A and IV C series turboshaft engines. EASA advises that 7 reports were received of oil leakage due to the deterioration of flexible lubrication pipes, part number (P/N) 0 249 92 813 0, installed on Turbomeca Turmo III C4 (military version) turboshaft engines. Turbomeca is still investigating the cause of the deterioration, but links a manufacturing process change, applied by the pipe manufacturer, in 2003. The same process was used to manufacture flexible lubrication pipes, P/N 0 249 92 916 0. Either P/N pipe could be installed on Turmo IV A and IV C series turboshaft engines.

Relevant Service Information

We have reviewed and approved the technical contents of Turbomeca Alert Mandatory Service Bulletin (MSB) No. A249 72 0802, Update No. 1, dated August 3, 2006. That Alert MSB describes procedures for identifying affected flexible lubrication pipes by their curing batch number, and replacing one of the affected pipes on a twin-engine helicopter to prevent dual-engine failure. That Alert MSB also describes procedures for performing repetitive borescope inspections of all other affected pipes and visual inspections of the oil filter. EASA classified this service bulletin as mandatory and issued AD 2006-0240-E in order to ensure the airworthiness of these Turbomeca Turmo IV A and IV C series turboshaft engines in Europe.

Bilateral Airworthiness Agreement

These Turbomeca Turmo IV A and IV C series turboshaft engines are manufactured in France and are type certificated for operation in the United States under the provisions of section 21.29 of the Federal Aviation Regulations (14 CFR 21.29) and the applicable bilateral airworthiness agreement. Under this bilateral airworthiness agreement, EASA kept the FAA informed of the situation described above. We have examined the findings of EASA, reviewed all available information, and determined that AD action is necessary for products of this type design that are certificated for operation in the United States.

FAA's Determination and Requirements of This AD

The unsafe condition described previously is likely to exist or develop on other Turbomeca Turmo IV A and IV C series turboshaft engines of the same type design. We are issuing this AD to prevent dual-engine failure on a twin-engine helicopter. This AD requires identifying affected flexible lubrication pipes by their curing batch number, and replacing the affected pipe before further flight, on one engine if both engines on the same helicopter each have an affected pipe. This AD also requires initial and repetitive borescope inspections of flexible lubrication pipes and visual inspections of the oil filter, on engines that do not have the affected pipe replaced before further flight.

FAA's Determination of the Effective Date

Since an unsafe condition exists that requires the immediate adoption of this AD, we have found that notice and opportunity for public comment before issuing this AD are impracticable, and that good cause exists for making this amendment effective in less than 30 days.

Interim Action

These actions are interim actions and we may take further rulemaking actions in the future.

Comments Invited

This AD is a final rule that involves requirements affecting flight safety and was not preceded by notice and an opportunity for public comment; however, we invite you to send us any written relevant data, views, or arguments regarding this AD. Send your comments to an address listed under ADDRESSES. Include “AD Docket No. FAA-2006-25730; Directorate Identifier 2006-NE-31-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-21-11 Turbomeca: Amendment 39-14796. Docket No. FAA-2006-25730; Directorate Identifier 2006-NE-31-AD.

Effective Date

(a) This airworthiness directive (AD) becomes effective November 3, 2006.

Affected ADs

(b) None.

Applicability

(c) This AD applies to Turbomeca Turmo IV A and IV C series turboshaft engines with flexible lubrication pipes, part number (P/N) 0 249 92 813 0 or P/N 0 249 92 916 0, installed. These engines are installed on but not limited to, Aerospatiale SA 330—PUMA helicopters.

Unsafe Condition

(d) This AD results from 7 reports of oil leakage due to the deterioration of certain flexible lubrication pipes, part number (P/N) 0 249 92 813 0. We are issuing this AD to prevent dual-engine failure on a twin-engine helicopter.

Compliance

(e) You are responsible for having the actions required by this AD performed within the compliance times specified unless the actions have already been done.

Initial Actions

(f) Before further flight:

(1) Identify the curing batch of the flexible lubrication pipes.

(2) If the two engines installed on the same helicopter have pipes with a curing batch of “2T03” (meaning 2nd quarter of 2003) or subsequent batch, replace one of the pipes with a pipe having a curing batch before batch “2T03”.

(3) On the other engine, or on a helicopter that has only one engine affected by this AD, borescope-inspect the pipe for deterioration, visually inspect for oil leakage, and visually inspect the oil filter for black particle deterioration from the pipe. Replace the pipe if deterioration or leakage is found, with a pipe having a curing batch before batch “2T03”.

Repetitive Actions

(g) Within every additional 25 operating hours, on engines still having an affected flexible lubrication pipe, borescope-inspect the pipe for deterioration, visually inspect pipe for oil leakage, and visually inspect the oil filter for black particle deterioration from the pipe. Replace the pipe if deterioration or leakage is found, with a pipe having a curing batch before batch “2T03”.

(h) Information on performing the initial and repetitive actions in this AD can be found in Turbomeca Alert Mandatory Service Bulletin No. A249 72 0802, Update No. 1, dated August 3, 2006.

Alternative Methods of Compliance

(i) The Manager, Engine Certification Office, has the authority to approve alternative methods of compliance for this AD if requested using the procedures found in 14 CFR 39.19.

Related Information

(j) European Aviation Safety Agency airworthiness directive No. 2006-0240-E, dated August 11, 2006, also addresses the subject of this AD.

Issued in Burlington, Massachusetts, on October 12, 2006.
Thomas A. Boudreau,
Acting Manager, Engine and Propeller Directorate, Aircraft Certification Service.

[FR Doc. E6-17328 Filed 10-18-06; 8:45 am]

BILLING CODE 4910-13-P